CONSUMER PRODUCT SAFETY COMMISSION

Sunshine Act Meetings Notice

TIME AND DATE: Wednesday, November 2, 2016, 9:30 a.m.—11:30 a.m.

PLACE: Hearing Room 420, Bethesda Towers, 4330 East West Highway, Bethesda, Maryland.

STATUS: Commission Meeting—Open to the Public.

MATTER TO BE CONSIDERED: Decisional Matter: Portable Generators—Notice of Proposed Rulemaking

A live webcast of the Meeting can be viewed at www.cpsc.gov/live.

TIME AND DATE: Wednesday, November 2, 2016; 1:30 p.m.—3:30 p.m.

PLACE: Hearing Room 420, Bethesda Towers, 4330 East West Highway, Bethesda, Maryland.

STATUS: Commission Meeting—Closed to the Public.

MATTERS TO BE CONSIDERED: Compliance Matters: The Commission staff will brief the Commission on the status of various compliance matters.

CONTACT PERSON FOR INFORMATION: Todd A. Stevenson, Office of the Secretary, U.S. Consumer Product Safety Commission, 4330 East West Highway, Bethesda, MD 20814, (301) 504-7923.

Dated: October 25, 2016.
Todd A. Stevenson,
Secretary.

[FR Doc. 2016-26142 Filed 10-26-16; 11:15 am]

BILLING CODE 6355-01-P